NUCLEAR REGULATORY COMMISSION

[Docket No. 50-354]

PSEG Nuclear, LLC; Notice of Withdrawal of Application for Amendment to Facility Operating License

The U.S. Nuclear Regulatory Commission (the Commission or NRC) has granted the request of PSEG Nuclear, LLC, (the licensee) to withdraw its April 16, 2002, application for proposed amendment to Facility Operating License No. NPF-57 for the Hope Creek Generating Station, Unit No. 1, located in Salem County, New Jersey.

The proposed amendment would have revised the Technical Specifications to delete the primary containment isolation valves and instrumentation associated with the permanent removal of the reactor vessel head spray piping.

The Commission had previously issued a Notice of Consideration of Issuance of Amendment published in the Federal Register on October 29, 2002 (67 FR 66013). However, by letter dated March 19, 2003, the licensee withdrew the proposed change.

For further details with respect to this action, see the application for amendment dated April 16, 2002, and the licensee's letter dated March 19, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 28th day of March 2003.
For the Nuclear Regulatory Commission.
George F. Wunder,
Project Manager, Section 2, Project Directorate I, Division of Licensing Project Management, Office of Nuclear Reactor Regulation.

[FR Doc. 03-8111 Filed 4-2-03; 8:45 am]

BILLING CODE 7590-01-P